DEPARTMENT OF HEALTH AND HUMAN SERVICES

Funding Opportunity Title: Announcement of Anticipated Availability of Funds for Family Planning Services Grants

AGENCY: Department of Health and Human Services, Office of Public Health and Science, Office of Population Affairs.

ACTION: Notice.

Announcement Type: Initial Competitive Grant.

CFDA Number: 93.217.

Authority: Section 1001 of the Public Health Service Act.

DATES: Application due dates vary. To receive consideration, applications must be received by the Office of Public Health and Science (OPHS), Office of Grants Management (OGM) no later than the applicable due date listed in Table I of this announcement (Section IV. 3, Submission Dates and Times) and within the time frames specified in this announcement for electronically submitted, mailed, and/or hand-delivered hard copy applications. Executive Order 12372 comment due date: The State Single Point of Contact (SPOC) has 60 days from the applicable due date as listed in Table I of this announcement to submit any comments.

ADDRESSES: Application kits may be obtained electronically by accessing Grants.gov at http://www.grants.gov or GrantSolutions at www.GrantSolutions.gov. To obtain a hard copy of the application kit, contact the OPHS Office of Grants Management, at 240-453-8822. Applicants may fax a written request to OPHS Office of Grants Management 240-453-8823. Applications must be prepared using Form OPHS-1 “Grant Application,” which is included in the application kit.

FOR FURTHER INFORMATION CONTACT: OPHS Office of Grants Management, 1101 Wootton Parkway, Suite 550, Rockville, MD 20853 at 240-453-8822, or fax 240-453-8822.

SUMMARY: The Office of Population Affairs (OPA), Office of Family Planning (OFP), announces the anticipated availability of funds for Fiscal Year (FY) 2008 family planning services grants under the authority of Title X of the Public Health Service Act. This notice solicits applications for competing grant awards to serve the areas and/or populations listed in Table I. Only applications which propose to serve the areas and/or populations listed in Table I will be accepted for review and possible funding.

I. Funding Opportunity Description

This announcement seeks applications from public and nonprofit private entities to establish and operate voluntary family planning services projects, which shall provide family planning services to all persons desiring such services. Family planning services include clinical family planning and related preventive health services; information, education, and counseling related to family planning; and, referral services as indicated.

Applicants should use the Title X legislation, applicable regulations, Program Guidelines, legislative mandates, Program Priorities, and other Key Issues included in this announcement and in the application kit, to guide them in developing their applications.

Program Statute, Regulations, Guidelines, Legislative Mandates, Program Priorities, and Key Issues

Title X Statute and Regulations: Requirements regarding the provision of family planning services under Title X can be found in the statute (Title X of the Public Health Service Act, 42 U.S.C. 300, et seq.) and in the implementing regulations which govern project grants for family planning services (42 CFR part 59, subpart A). In addition, sterilization of clients as part of the Title X program must be consistent with 42 CFR part 50 subpart B, (“Sterilization of Persons in Federally Assisted Family Planning Projects”). Title X of the Public Health Service Act authorizes the Secretary of Health and Human Services (HHS) to award grants for projects to provide family planning services to any person desiring such services, with priority given to individuals from low-income families. Section 1001 of the Act, as amended, authorizes grants “to assist in the establishment and operation of voluntary family planning projects which shall offer a broad range of acceptable and effective family planning methods and services (including natural family planning methods, infertility services, and services for adolescents).” Title X regulations further specify that “These projects shall consist of the educational, comprehensive medical, and social services necessary to aid individuals to determine freely the number and spacing of their children” (42 CFR 59.1). In addition, section 1001 of the statute requires that, to the extent practicable, Title X service providers shall encourage family participation in family planning services projects. Section 1008 of the Act, as amended, stipulates that “None of the funds appropriated under this title shall be used in programs where abortion is a method of family planning.”

Legislative Mandates: The following legislative mandates have been part of the Title X appropriations language for each of the last several years. Title X family planning services projects should include administrative, clinical, counseling, and referral services necessary to ensure adherence to these requirements.

“None of the funds appropriated in this Act may be made available to any entity under title X of the Public Health Service Act unless the applicant for the award certifies to the Secretary that it encourages family participation in the decision of minors to seek family planning services and that it provides counseling to minors on how to resist attempts to coerce minors into engaging in sexual activities;” and

“Notwithstanding any other provision of law, no provider of services under title X of the Public Health Service Act shall be exempt from any State law requiring notification or the reporting of child abuse, child molestation, sexual abuse, rape, or incest.”

Program Guidelines: Additional operational guidance for projects funded under Title X can be found in the “Program Guidelines for Project Grants for Family Planning Services” (January 2001). These Program Guidelines are included in the application kit for this announcement.

Copies of the Title X statute, regulations, legislative mandates, and Program Guidelines may be obtained by contacting the Office of Public Health and Science (OPHS) Office of Grants Management, or may be downloaded from the Office of Population Affairs Web site at http://opa.osophs.dhhs.gov. These documents are also included in the application kit. All activities funded under this announcement must be consistent with the Title X statute, regulations, legislative mandates, and Program Guidelines. For example, projects must meet the regulatory requirements set out at 42 CFR 59.5 regarding charges to clients. The funding criteria set out at 42 CFR 59.7 apply to all applicants under this announcement.

Program Priorities: Each year the OFP establishes program priorities that represent overarching goals for the Title X program. Project plans should be developed that address 2008 Title X program priorities, and should provide evidence of the project's capacity to address program priorities they evolve in future years. The 2008 program priorities are as follows:

1. Assuring ongoing high quality family planning and related preventive health services that will improve the overall health of individuals, with priority for services to individuals from low-income families;

2. Assuring access to a broad range of acceptable and effective family planning methods and related preventive health services that include natural family planning methods, infertility services, and services for adolescents; highly effective contraceptive methods; breast and cervical cancer screening and prevention services that correspond with nationally recognized standards of care; STD and HIV prevention education, counseling, testing, and referral; adolescent abstinence counseling; and other preventive health services. The broad range of services does not include abortion as a method of family planning;

3. Assuring compliance with State laws requiring notification or the reporting of child abuse, child molestation, sexual abuse, rape, or incest;

4. Encouraging participation of families, parents, and/or legal guardians in the decision of minors to seek family planning services; and providing counseling to minors on how to resist attempts to coerce minors into engaging in sexual activities;

5. Addressing the comprehensive family planning and other health needs of individuals, families, and communities through outreach to hard-to-reach and/or vulnerable populations, and partnering with other community-based health and social service providers that provide needed services.

Key Issues: In addition to the Program Priorities, the following key issues have implications for Title X services projects, and should be considered in developing the program plan:

1. Cost of contraceptives and other pharmaceuticals;

2. Efficiency and effectiveness in program management and operations;

3. Management and decision-making through performance measures and accountability for outcomes;

4. Linkages and partnerships with community-based and faith-based organizations;

5. Addressing CDC's “Revised Recommendations for HIV Testing of Adults,

Adolescents, and Pregnant Women in Health Care Settings,” and incorporating “ABC” concepts for HIV prevention counseling (that is, “A” for extramarital abstinence; “B” for be faithful in marriage or committed relationships; and, “C” for correct and consistent condom use. For individuals at increased risk for contracting or transmitting HIV, the message should include “A,” “B,” and “C”;

6. The use of electronic technologies, such as electronic grants management capabilities, electronic health information infrastructures, electronic access to health quality information, and similar electronic systems;

7. Data collection (such as the Family Planning Annual Report [FPAR]) for use in monitoring performance and improving family planning services;

8. Service delivery improvement through translation into practice of research outcomes that focus on family planning and related population issues; and

9. Utilizing practice guidelines and recommendations, developed by recognized national professional organizations and Federal agencies, in the provision of evidence-based Title X clinical services.

II. Award Information

The anticipated fiscal year (FY) 2008 appropriation for the Title X family planning program is approximately $283 million. Of this amount, OPA intends to make available approximately $81.1 million for competing Title X family planning services grant awards in 21 states, populations, and/or areas. (See Table I, Section IV. 3, Submission Dates and Times, for competing areas and approximate amount of available funding.) The amounts stated in Table I are inclusive of indirect costs, and represent the total amount available for the area/population to be served. The remaining FY 2008 funds will be used for continued support of grants and activities which are not competitive in FY 2008. This program announcement is subject to the appropriation of funds, and is a contingency action taken to ensure that, should funds become available for this purpose, applications can be processed in an orderly manner, and funds can be awarded in a timely fashion. Grants will be funded in annual increments (budget periods) and are generally approved for a project period of up to five years. Funding for all approved budget periods beyond the first year of the grant is contingent upon the availability of funds, satisfactory progress of the project, and adequate stewardship of Federal funds.

III. Eligibility Information

1. Eligible Applicants

Any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a grant under this announcement. Faith-based organizations are eligible to apply for these Title X family planning services grants. Nonprofit private entities must provide proof of nonprofit status. See Section IV.2. for information regarding acceptable proof of nonprofit status.

2. Cost Sharing

Program regulations at 42 CFR 59.7(c) stipulate that “No grant may be made for an amount equal to 100 percent of the project's estimated costs.” Also, 42 CFR 59.7(b) states that “No grant may be made for less than 90 percent of the project's costs, as so estimated, unless the grant is to be made for a project that was supported, under section 1001, for less than 90 percent of its costs in fiscal year 1975. In that case, the grant shall not be for less than the percentage of costs covered by the grant in fiscal year 1975.”

While there is not a fixed cost-sharing percentage or amount, projects must include financial support from sources other than Title X. The proposed project budget should reflect financial support in addition to Title X funds on both the Standard Form (SF) 424A, “Budget Information,” and in the budget justification. The amount and source(s) of these funds must be clearly identified separately from the requested Title X support as indicated on the SF 424A, as well as on the SF 424, “Application for Federal Assistance.” The OPHS Office of Grants Management will review applications to ensure that the requested amount of Title X funding is in compliance with this business requirement.

3. Other

Awards will be made only to those organizations or agencies that have met all applicable requirements, and that demonstrate the capability of providing the required services.

IV. Application and Submission Information

1. Address to Request Application Package. Application kits may be obtained electronically by accessing Grants.gov at http://www.grants.gov or the electronic grants system at www.GrantSolutions.gov. Hard copy application kits may be requested from, and applications submitted to: Office of Public Health and Science (OPHS)/Office of Grants Management (OGM), 1101 Wootton Parkway, Suite 550, Rockville, MD 20852, 240-453-8822. Application requests may be submitted by fax at 240-453-8823. Applications must be prepared using Form OPHS-1 “Grant Application,” which includes budget forms, standard federal assurances, and instructions. The OPHS-1 can be obtained at the web sites noted above, or from the OPHS/OGM, and is included in the application kit for this announcement.

2. Content and Form of Application Submission. Applications must be submitted on the Form OPHS-1 and in the manner prescribed in the application kit. The application narrative should be limited to 60 double-spaced pages using an easily readable serif typeface such as Times Roman, Courier, or GC Times, 12 point font. The page limit does not include budget; budget justification; required forms, assurances, and certifications as part of the OPHS-1, “Grant Application”; or appendices. All pages, charts, figures and tables should be numbered, and a table of contents provided. The application narrative should be numbered separately and should clearly show the 60 page limit. If the application narrative exceeds 60 pages, only the first 60 pages of the application narrative will be reviewed. Appendices may provide curriculum vitae, organizational structure, examples of organizational capabilities, or other supplemental information which supports the application, but should be limited to the minimum necessary to support the application narrative. Brochures and bound materials should not be submitted. Appendices are for supportive information only, and should be clearly labeled. All information that is critical to the proposed project should be included in the body of the application.

For all non-governmental applicants, documentation of nonprofit status must be submitted as part of the application. Any of the following constitutes acceptable proof of such status:

a. A reference to the Applicant organization's listing in the Internal Revenue Service's (IRS) most recent list of tax-exempt organizations described in the IRS code;

b. A copy of a currently valid IRS tax exemption certificate;

c. A statement from a State taxing body, State attorney general, or other appropriate State official certifying that the applicant organization has a nonprofit status and that none of the net earnings accrue to any private shareholders or individuals;

d. A certified copy of the organization's certificate of incorporation or similar document that clearly establishes nonprofit status;

For local, nonprofit affiliates of State or national organizations, a statement signed by the parent organization indicating that the applicant organization is a local nonprofit affiliate must be provided in addition to any one of the above acceptable proof of nonprofit status.

A Dun and Bradstreet Universal Numbering System (DUNS) number is required for all applications for federal assistance. Organizations should verify that they have a DUNS number or take the steps needed to obtain one. Instructions for obtaining a DUNS number are included in the application package, or may be downloaded from the OPA Web site.

Applications must include an abstract of the proposed project. The abstract will be used to provide reviewers with an overview of the application, and will form the basis for the application summary in grants management documents.

Application Content

Successful applicants will clearly describe the administrative, management, and clinical capability of the applicant organization. All required services should be included as part of the program plan. The budget request and justification should directly reflect project activities.

Characteristics of a Successful Proposal

Proposed projects must adhere to all requirements of the Title X statute; applicable regulations, including regulations regarding sterilization of persons in Federally assisted family planning projects; and legislative mandates. Applicants are also expected to utilize Program Guidelines in developing the project plan. As indicated in the Title X regulations at 42 CFR 59.5(a)(7)-(9) and Program Guidelines, persons at or below 100% of the current Federal Poverty Level (FPL) must not be charged except where third parties are authorized or legally obligated to pay. Charges to persons between 101% and 250% of the FPL should be charged based on a schedule of discounts with sufficient increments so that inability to pay does not present a barrier to services. The schedule of discounts should be developed based on a cost analysis of services provided.

Successful proposals will fully describe how the project will address Title X requirements, and should include the following:

1. A clear description of the need for the services proposed;

2. A description of the geographic area and population to be served;

3. Evidence that the proposed project will address the family planning needs identified;

4. Evidence that the applicant organization has experience in providing clinical health services, and the capacity to undertake the comprehensive clinical family planning and related preventive health services required, including offering a broad range of acceptable and effective family planning methods and services, and complying with the requirements of the legislative mandates;

5. Evidence of familiarity with, and ability to provide services that include the following:

a. Family planning and related preventive health issues as indicated in the Program Guidelines and Program Priorities;

b. Services that are consistent with current, recognized national standards of care related to family planning, reproductive health, and general preventive health measures;

c. Compliance with State laws requiring notification or the reporting of child abuse, child molestation, sexual abuse, rape, or incest;

d. Counseling techniques that encourage family participation in healthcare and reproductive decision-making of adolescents, and teach resistance skills for adolescents to avoid exploitation and/or sexual coercion;

6. A proposed schedule of discounts, or for applicants with multiple sub-recipients, a policy applicable to sub-recipients which meets the criteria set out in the Title X regulations at 42 CFR 59.5(a)(7)-(9), and in the Program Guidelines;

7. Evidence that the proposed services are consistent with the Title X statute; program regulations (including regulations regarding sterilization of persons in Federally assisted family planning services projects); legislative mandates; and Program Guidelines.

8. Evidence that Title X funds will not be used in programs where abortion is a method of family planning;

9. Evidence that Title X project activities are separate and distinct from non-Title X activities;

10. A project plan which describes the services to be provided, the location(s) and hours of clinic operations, and projected number of clients to be served;

11. A plan for providing community information and education programs which promote understanding of the objectives of the project and inform the community about the availability of services. The plan should include a strategy for maintaining records of information and education activities provided as part of the project;

12. A plan for an information and education advisory committee that is consistent with the Title X statute and regulations at 42 CFR 59.6, and that will ensure that all information and education materials used as part of the project are current, factual, and medically accurate, as well as suitable for the population or community to which they will be made available;

13. Evidence that the Title X Program Priorities and Key Issues are addressed in the project plan;

14. A staffing plan which is reasonable and adheres to the Title X regulatory requirement that family planning medical services be performed under the direction of a physician with special training or experience in family planning. Staff providing clinical services (e.g., physicians, State recognized advanced practice nurses, physician assistants) should be licensed and function within the applicable professional practice acts for the State in which they practice;

15. Goal statement(s) and related outcome objectives that are specific, measurable, achievable, realistic and time-framed (S.M.A.R.T.);

16. Evidence that the applicant has a plan to facilitate access to the following:

a. Required clinical services, if not provided by the applicant; comprehensive primary care services; and/or,

b. Other needed health and social services for clients served in the Title X-funded family planning project. This includes evidence of formal agreements for referral services, and collaborative agreements with other service providers in the community, where appropriate;

17. Evidence of the capability of collecting and reporting the required program data for the Title X annual data collection system (FPAR);

18. Evidence of a system for ensuring quality family planning services, including

a. A process for ensuring compliance with program requirements, and

b. A methodology for ensuring that health care practitioners have the knowledge and skills necessary to provide effective, quality family planning and related preventive health services that are consistent with current, evidence-based national standards of care. This should include training of select health care practitioners by the Clinical Training Center for Family Planning (CTCFP), and utilizing clinical training opportunities available through the Regional Training Center in the applicable region; and,

19. A budget and budget justification narrative for year one of the project that is detailed, reasonable, adequate, cost efficient, and that is derived from proposed activities. Budget projections for each of the continuing years should be included on the Standard Forms 424 and 424A included in the OPHS-1 “Grant Application.”

3. Submission Dates and Times. Competing grant applications are invited for the following areas (please note, in order to maximize access to family planning services, one or more grants may be awarded for each area listed within the total amount indicated for the area):

Table I
States/populations/areas to be served | Approximate funding available | Application due date | Approx. grant funding date
Region I:
No service areas competitive in FY 2008
Region II:
New York, New York City area | $4,209,000 | 03/01/08 | 07/01/08
New Jersey | 8,586,000 | 09/01/07 | 01/01/08
Region III:
Maryland | 3,957,000 | 12/01/07 | 04/01/08
Southeast Pennsylvania | 4,889,000 | 03/01/08 | 07/01/08
West Virginia | 2,169,000 | 12/01/07 | 04/01/08
Region IV:
Kentucky | 5,442,500 | 03/01/08 | 07/01/08
South Carolina | 5,767,000 | 03/01/08 | 07/01/08
Florida, Greater Miami area | 544,000 | 06/01/08 | 09/30/08
Region V:
Ohio, Central area | 709,500 | 11/01/07 | 03/01/08
Minnesota | 2,632,500 | 09/01/07 | 01/01/08
Region VI:
Arkansas | 3,341,000 | 11/01/07 | 03/01/08
Louisiana | 4,370,000 | 03/01/08 | 07/01/08
New Mexico | 2,835,000 | 09/01/07 | 01/01/08
Region VII:
Iowa | 2,531,500 | 03/01/08 | 07/01/08
Iowa | 1,061,500 | 06/01/08 | 09/30/08
Region VIII:
Montana | 1,970,000 | 03/01/08 | 07/01/08
Region IX:
Arizona | 4,080,500 | 09/01/07 | 01/01/08
California | 20,451,500 | 09/01/07 | 01/01/08
California, Los Angeles area | 472,000 | 09/01/07 | 01/01/08
Republic of the Marshall Islands | 190,500 | 03/01/08 | 07/01/08
Region X:
Alaska | 873,000 | 03/01/08 | 07/01/08

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of this grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov website portal at www.Grants.gov. All OPHS funding opportunities and application kits are made available on Grants.gov. If your organization has/had a grantee business relationship with a grant program serviced by the OPHS Office of Grants Management, and you are applying as part of ongoing grantee related activities, please access www.GrantSolutions.gov.

Electronic grant application submissions must be submitted no later than 5 p.m. Eastern Time on the deadline date specified in Table I of Section IV. 3, Submission Dates and Times of this announcement using one of the electronic submission mechanisms specified below. All required hard copy original signatures and mail-in items must be received by the OPHS Office of Grants Management no later than 5 p.m. Eastern Time on the next business day after the deadline date specified in Table I of this announcement.

Applications will not be considered valid until all electronic application components, hard copy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative, and any appendices or exhibits. All required mail-in items must received by the due date requirements specified above. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hard copy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the GrantSolutions System

The electronic grants management system, www.GrantSolutions.gov, provides for applications to be submitted electronically. When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the Grants.gov Web site Portal must contain all completed online forms required by the application kit, the Program Narrative, Budget Narrative, and any appendices or exhibits. All required mail-in items must received by the due date requirements specified above.

Upon completion of a successful electronic application submission, the GrantSolutions system will provide the applicant with a confirmation page indicating the date and time (Eastern Time) of the electronic application submission. This confirmation page will also provide a listing of all items that constitute the final application submission including all electronic application components, required hard copy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management no later than 5 p.m. Eastern Time on the deadline dates specified in Table I of this announcement. The application deadline date requirement specified in this announcement supersedes the instructions in the OPHS-1. Applications that do not meet the deadline will be returned to the applicant unread.

4. Intergovernmental Review. Applicants under this announcement are subject to the requirements of Executive Order 12372, “Intergovernmental Review of Federal Programs,” as implemented by 45 CFR part 100, “Intergovernmental Review of Department of Health and Human Services Programs and Activities.” As soon as possible, the applicant should discuss the project with the State Single Point of Contact (SPOC) for the state in which the applicant is located. The application kit contains the currently available listing of the SPOCs that have elected to be informed of the submission of applications. For those states not represented on the listing, further inquiries should be made by the applicant regarding the submission to the relevant SPOC. The SPOC should forward any comments to the OPHS Office of Grants Management, 1101 Wootton Parkway, Suite 550, Rockville, Maryland 20852. The SPOC has 60 days from the due date for the applicable area/population to be served as listed in Table I of this announcement to submit any comments. For further information, contact the OPHS Office of Grants Management at 240-453-8822.

5. Funding Restrictions. The allowability, allocability, reasonableness and necessity of direct and indirect costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html.

In order to claim indirect costs as part of a budget request, an applicant organization must have an indirect cost rate which has been negotiated with the Federal Government. The Health and Human Services Division of Cost Allocation (DCA) Regional Office that is applicable to your State can provide information on how to receive such a rate. A list of DCA Regional Offices is included in the application kit for this announcement.

6. Other Submission Requirements. Applications must include an abstract of the proposed project.

V. Application Review Information

1. Criteria. Eligible applications will be assessed according to the following criteria:

Within the limits of funds available for these purposes, grants may be awarded for the establishment and operation of those projects which will best promote the purposes of section 1001 of Title X of the Public Health Service Act, taking into account:

(1) The degree to which the project plan adequately provides for the requirements set forth in the Title X regulations at 42 CFR part 59, subpart A (20 points);

(2) The extent to which family planning services are needed locally (20 points);

(3) The adequacy of the applicant's facilities and staff (20 points);

(4) The number of patients, and, in particular, the number of low-income patients to be served (15 points);

(5) The capacity of the applicant to make rapid and effective use of the Federal assistance (10 points);

(6) The relative availability of non-Federal resources within the community to be served and the degree to which those resources are committed to the project (10 points); and

(7) The relative need of the applicant (5 points).

2. Review and Selection Process. Each regional office is responsible for facilitating the process of evaluating applications and setting funding levels according to the criteria set out in 42 CFR 59.7(a). Awards (single or multiple for an area/population listed in Table I) will be made for approximately the amount listed. Application budgets that are significantly greater than the amount indicated in Table I for the area to be served, will be considered unfundable. Eligible applications will be reviewed by a panel of independent reviewers and will be evaluated based on the criteria listed above. In addition to the independent review panel, there will be Federal staff reviews of each application for programmatic and grants management compliance.

Final grant award decisions will be made by the Regional Health Administrator (RHA) for the applicable Public Health Service region. In making grant award decisions, the RHA will fund those projects which will, in his/her judgement, best promote the purposes of section 1001 of the Act, within the limits of funds available for such projects.

VI. Award Administration Information

1. Award Notices

The OPA does not release information about individual applications during the review process. When final funding decisions have been made, each applicant will be notified by letter of the outcome. The official document notifying an applicant that a project application has been approved for funding is the Notice of Grant Award (NGA), signed by the Director of the OPHS Office of Grants Management. This document specifies to the grantee the amount of money awarded, the purposes of the grant, the length of the project period, terms and conditions of the grant award, and the amount of funding to be contributed by the grantee to project costs. Grantees should pay specific attention to the terms and conditions of the award as indicated on the NGA, as some may require a time-limited response. The NGA will also identify the Grants Specialist and Program Project Officer assigned to the grant.

2. Administrative and National Policy Requirements

In accepting the award, the grantee stipulates that the award and any activities thereunder are subject to all provisions of 45 CFR parts 74 and 92, currently in effect or implemented during the period of the grant. Grant funds may only be used to support activities outlined in the approved project plan.

The successful applicant will be responsible for the overall management of activities within the scope of the approved project plan. The OPHS requires all grant recipients to provide a smoke-free workplace and to promote the non-use of all tobacco products. This is consistent with the OPHS mission to protect and advance the physical and mental health of the American people.

The Health and Human Services Appropriations Act requires that when issuing statements, press releases, requests for proposals, bid solicitations, and other documents describing projects or programs funded in whole or in part with federal money, grantees shall clearly state the percentage and dollar amount of the total costs of the program or project that will be financed with federal money and the percentage and dollar amount of the total costs of the project or program that will be financed by non-governmental sources.

3. Reporting

Each grantee is required to submit a Family Planning Annual Report (FPAR) each year.

The information collections (reporting requirements) and format for this report have been approved by the Office of Management and Budget and assigned OMB No. 0990-0221. The FPAR contains a brief organizational profile and 14 tables to report data on users, service use, and revenue for the reporting year. The FPAR instrument and instructions can be found on the OPA Web site at http://opa.osophs.dhhs.gov, and are included in the application kit for this announcement.

In addition to the FPAR, grantees are required to submit an annual Financial Status Report within 90 days of the end of each budget period. Grantees who receive $500,000 or greater of Federal funds must also undergo an independent audit in accordance with OMB Circular A-133.

Each year of the approved project period, grantees are required to submit a non-competing continuation application, which includes a progress report for the current budget year, and work plan, budget, and budget narrative for the upcoming year.

Required reports may be submitted either electronically or in hard copy.

VII. Agency Contacts

Administrative and Budgetary Requirements

For information related to administrative and budgetary requirements, contact the OPHS Office of Grants Management Grants Specialist for the applicable region as listed below:

For Region I (Connecticut, Maine, Massachusetts, New Hampshire, Rhode Island, Vermont), Region II (New Jersey, New York, Puerto Rico, Virgin Islands), Region III (Delaware; Washington, DC; Maryland; Pennsylvania; Virginia; West Virginia), and Region VI (Arkansas, Louisiana, New Mexico, Oklahoma, Texas) contact Renee Scales, 240-453-8822, renee.scales@hhs.gov.

For Region IV (Kentucky, Mississippi, North Carolina, Tennessee, Alabama, Florida, Georgia, South Carolina), Region V (Illinois, Indiana, Michigan, Minnesota, Ohio, Wisconsin), and Region VII (Iowa, Kansas, Missouri, Nebraska) contact Eleanor Walker, 240-453-8822, eleanor.walker@hhs.gov.

For Region VIII (Colorado, Montana, North Dakota, South Dakota, Utah, Wyoming), Region IX (Arizona, California, Hawaii, Nevada, Commonwealth of the Northern Mariana Islands, American Samoa, Guam, Republic of Palau, Federated States of Micronesia, Republic of the Marshall Islands), and Region X (Alaska, Idaho, Oregon, Washington) contact Robin Fuller, 240-453-8822, robin.fuller@hhs.gov.

Program Requirements

For information related to family planning program requirements, contact the OPA/OFP contact in the applicable regional office listed below:

Region I (Connecticut, Maine, Massachusetts, New Hampshire, Rhode Island, Vermont)—Betsy Rosenfeld, 617-565-4265, betsy.rosenfeld@hhs.gov or Kathy Stratford, 617-565-1070, kathleen.stratford@hhs.gov;

Region II (New Jersey, New York, Puerto Rico, Virgin Islands)—Robin Lane, 212-264-3935, robin.lane@hhs.gov;

Region III (Delaware, Washington, DC, Maryland, Pennsylvania, Virginia, West Virginia)—Dickie Lynn Gronseth, 215-861-4656, dickielynn.gronseth@hhs.gov;

Region IV (Kentucky, Mississippi, North Carolina, Tennessee, Alabama, Florida, Georgia, South Carolina)—Edecia Richards, 404-562-7900, edecia.richards@hhs.gov;

Region V (Illinois, Indiana, Michigan, Minnesota, Ohio, Wisconsin)—Marjie Witman, 312-886-3864, marjie.witman@hhs.gov;

Region VI (Arkansas, Louisiana, New Mexico, Oklahoma, Texas)—Evelyn Glass, 214-767-3088, evelyn.glass@hhs.gov;

Region VII (Iowa, Kansas, Missouri, Nebraska)—Betty Chern-Hughes, 816-426-2924, betty.chernhughes@hhs.gov;

Region VIII (Colorado, Montana, North Dakota, South Dakota, Utah, Wyoming)— Jill Leslie, 303-844-7856, jill.leslie@hhs.gov;

Region IX (Arizona, California, Hawaii, Nevada, Commonwealth of the Northern Mariana Islands, American Samoa, Guam, Republic of Palau, Federal States of Micronesia, Republic of the Marshall Islands)— Nancy Mautone-Smith, 415-437-7984, nancy.mautone-smith@hhs.gov; and

Region X (Alaska, Idaho, Oregon, Washington)—Janet Wildeboor, 206-615-2776, janet.wildeboor@hhs.gov.

VIII. Other Information

Technical Assistance Conference Call: The OFP will conduct several technical assistance conference calls to provide potential applicants with general information regarding this funding opportunity. These calls will be held shortly after publication of this Notice in the Federal Register. For more information regarding the call schedule, including date, registration information, and how to participate, please consult the OPA Web site at http://opa.osophs.dhhs.gov.

Dated: June 5, 2007.
Evelyn M. Kappeler,
Acting Director, Office of Population Affairs.

[FR Doc. E7-11183 Filed 6-8-07; 8:45 am]

BILLING CODE 4150-34-P